COMMITTEE FOR PURCHASE FROM PEOPLE WHO ARE BLIND OR SEVERELY DISABLED

Procurement List; Proposed Additions and Deletions

AGENCY: Committee for Purchase from People Who Are Blind or Severely Disabled.

ACTION: Proposed Additions to and Deletions from Procurement List.

SUMMARY: The Committee is proposing to add to the Procurement List products and a service to be furnished by nonprofit agencies employing persons who are blind or have other severe disabilities, and to delete services previously furnished by such agencies.

Comments Must Be Received on or Before: June 29, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice for each product or service will be required to procure the products and service listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and service are proposed for addition to Procurement List for production by the nonprofit agencies listed:

Products

Product/NSN: Antibacterial Wipe Shipper

M.R. 90403

NPA: Winston-Salem Industries for the Blind, Winston-Salem, North Carolina

Contract Activity: Defense Commissary Agency (DeCA), Ft. Lee, Virginia

Product/NSN: Belt, Women's Cotton Web, Black with Gold Clip

8445-01-501-0232

NPA: Travis Association for the Blind, Austin, Texas

Contract Activity: Defense Supply Center Philadelphia, Philadelphia, Pennsylvania

Service

Service Type/Location: Janitorial/Custodial, U.S. Customs Service, 8855 NE Airport Way, Portland, Oregon

NPA: Portland Habilitation Center, Inc., Portland, Oregon

Contract Activity: U.S. Customs Service, Indianapolis, Indiana

Deletions

I certify that the following action will not have a significant impact on a substantial number of small entities. The major factors considered for this certification were:

1. If approved, the action will not result in any additional reporting, recordkeeping or other compliance requirements for small entities.

2. If approved, the action will result in authorizing small entities to furnish the services to the Government.

3. There are no known regulatory alternatives which would accomplish the objectives of the Javits-Wagner-O'Day Act (41 U.S.C. 46-48c) in connection with the services proposed for deletion from the Procurement List.

The following services are proposed for deletion from the Procurement List:

Services

Service Type/Location: Janitorial/Custodial, Petroglyph National Monument Headquarters, 6001 Unser Boulevard NW, Albuquerque, New Mexico

NPA: RCI, Inc., Albuquerque, New Mexico

Contract Activity: Department of Interior

Service Type/Location: Janitorial/Custodial, Social Security Administration, Data Operations Center and Annex, Albuquerque, New Mexico

NPA: Adelante Development Center, Inc., Albuquerque, New Mexico

Contract Activity: Social Security Administration, Baltimore, Baltimore, Maryland

G. John Heyer,
General Counsel.

[FR Doc. 03-13575 Filed 5-29-03; 8:45 am]

BILLING CODE 6353-01-P